DEPARTMENT OF HEALTH AND HUMAN SERVICES

Health Resources and Services Administration

National Vaccine Injury Compensation Program; List of Petitions Received

AGENCY: Health Resources and Services Administration, HHS.

ACTION: Notice.

SUMMARY: The Health Resources and Services Administration (HRSA) is publishing this notice of petitions received under the National Vaccine Injury Compensation Program (“the Program”), as required by section 2112(b)(2) of the Public Health Service (PHS) Act, as amended. While the Secretary of Health and Human Services is named as the respondent in all proceedings brought by the filing of petitions for compensation under the Program, the United States Court of Federal Claims is charged by statute with responsibility for considering and acting upon the petitions.

FOR FURTHER INFORMATION CONTACT: For information about requirements for filing petitions, and the Program in general, contact the Clerk, United States Court of Federal Claims, 717 Madison Place, NW., Washington, DC 20005, (202) 219-9657. For information on HRSA's role in the Program, contact the Director, National Vaccine Injury Compensation Program, 5600 Fishers Lane, Room 8A-46, Rockville, MD 20857; (301) 443-6593.

SUPPLEMENTARY INFORMATION: The Program provides a system of no-fault compensation for certain individuals who have been injured by specified childhood vaccines. Subtitle 2 of title XXI of the PHS Act, 42 U.S.C. 300aa-10 et seq., provides that those seeking compensation are to file a petition with the U.S. Court of Federal Claims and to serve a copy of the petition on the Secretary of Health and Human Services, who is named as the respondent in each proceeding. The Secretary has delegated his responsibility under the Program to HRSA. The Court is directed by statute to appoint special masters who take evidence, conduct hearings as appropriate, and make initial decisions as to eligibility for, and amount of, compensation.

A petition may be filed with respect to injuries, disabilities, illnesses, conditions, and deaths resulting from vaccines described in the Vaccine Injury Table (the Table) set forth at section 2114 of the PHS Act or as set forth at 42 CFR 100.3, as applicable. This Table lists for each covered childhood vaccine the conditions which will lead to compensation and, for each condition, the time period for occurrence of the first symptom or manifestation of onset or of significant aggravation after vaccine administration. Compensation may also be awarded for conditions not listed in the Table and for conditions that are manifested after the time periods specified in the Table, but only if the petitioner shows that the condition was caused by one of the listed vaccines.

Section 2112(b)(2) of the PHS Act, 42 U.S.C. 300aa-12(b)(2), requires that the Secretary publish in the Federal Register a notice of each petition filed. Set forth below is a list of petitions received by HRSA on January 2, 2001, through March 30, 2001.

Section 2112(b)(2) also provides that the special master “shall afford all interested persons an opportunity to submit relevant, written information” relating to the following:

1. The existence of evidence “that there is not a preponderance of the evidence that the illness, disability, injury, condition, or death described in the petition is due to factors unrelated to the administration of the vaccine described in the petition,” and

2. Any allegation in a petition that the petitioner either:

(a) “Sustained, or had significantly aggravated, any illness, disability, injury, or condition not set forth in the Table but which was caused by” one of the vaccines referred to in the Table, or

(b) “Sustained, or had significantly aggravated, any illness, disability, injury, or condition set forth in the Table the first symptom or manifestation of the onset or significant aggravation of which did not occur within the time period set forth in the Table but which was caused by a vaccine” referred to in the Table.

This notice will also serve as the special master's invitation to all interested persons to submit written information relevant to the issues described above in the case of the petitions listed below. Any person choosing to do so should file an original and three (3) copies of the information with the Clerk of the U.S. Court of Federal Claims at the address listed above (under the heading FOR FURTHER INFORMATION CONTACT), with a copy to HRSA addressed to Director, Bureau of Health Professions, 5600 Fishers Lane, Room 8-05, Rockville, MD 20857. The Court's caption (Petitioner's Name v. Secretary of Health and Human Services) and the docket number assigned to the petition should be used as the caption for the written submission.

Chapter 35 of title 44, United States Code, related to paperwork reduction, does not apply to information required for purposes of carrying out the Program.

List of Petitions

1. Monica Stein on behalf of Matthew James Stein, Boston, Massachusetts, Court of Federal Claims Number 01-0004V

2. Sharon Perkins Falu on behalf of Kashara Angina Falu, Mobile, Alabama, Court of Federal Claims Number 01-0005V

3. Maria and Gabino Avila on behalf of Gabino Avina Avila, Pleasanton, California, Court of Federal Claims Number 01-0009V

4. Ramiro Torres on behalf of Abigail Torres, Wheeling, Illinois, Court of Federal Claims Number 01-0010V

5. Eva and Robert Del Monte on behalf of Matthew Del Monte, Jersey City, New Jersey, Court of Federal Claims Number 01-0014V

6. Xochitl and Jose Garibay on behalf of Jonathan Daniel Garibay, Deceased, San Diego, California, Court of Federal Claims Number 01-0021V

7. Jack L. Morrow, Dayton, Ohio, Court of Federal Claims Number 01-0029V

8. Allison Whittenberg, Minneapolis, Minnesota, Court of Federal Claims Number 01-0032V

9. Jude Kidder, Lafayette, Louisiana, Court of Federal Claims Number 01-0042V

10. Endira Brito on behalf of Jacob Xavier Brito, Odessa, Texas, Court of Federal Claims Number 01-0043V

11. Julie Rundle, Rome, New York, Court of Federal Claims Number 01-0044V

12. Dawn and Ronald Francoeur on behalf of Ashley Francoeur, Westport, Massachusetts, Court of Federal Claims Number 01-0049V

13. Rachel Fox on behalf of Ashlyn Fox, Panama City, Florida, Court of Federal Claims Number 01-0050V

14. Susan and Raul Tellez on behalf of Raul Tellez, San Diego, California, Court of Federal Claims Number 01-0059V

15. Tammy Kuperus on behalf of Phillip Kuperus, Caledonia, Michigan, Court of Federal Claims Number 01-0060V

16. Sharon and James English on behalf of James Jones English, Fort Myers, Florida, Court of Federal Claims Number 01-0061V

17. Marek Milik on behalf of Arthur Milik, Woodmere, New York, Court of Federal Claims Number 01-0064V

18. William Tracy on behalf of Camille Tracy, Boston, Massachusetts, Court of Federal Claims Number 01-0067V

19. Mona Smith, Vienna, Virginia, Court of Federal Claims Number 01-0068V

20. Julie Grimes on behalf of Jacob Grimes, Vienna, Virginia, Court of Federal Claims Number 01-0071V

21. David Krause on behalf of Kelsey Krause, Indianapolis, Indiana, Court of Federal Claims Number 01-0093V

22. Kim DeJong on behalf of Brendan DeJong, Boston, Massachusetts, Court of Federal Claims Number 01-0095V

23. George Carlson on behalf of Teddy Carlson, Boston, Massachusetts, Court of Federal Claims Number 01-0096V

24. Josephine Besable, Seattle, Washington, Court of Federal Claims Number 01-0098V

25. Amy Nicole Melton on behalf of Brittany Nichole Melton, Ada, Oklahoma, Court of Federal Claims Number 01-0105V

26. Jack McFarland on behalf of Kelly McFarland, Boston, Massachusetts, Court of Federal Claims Number 01-0112V

27. Hope Finning on behalf of Kylie Finning, Danbury, Connecticut, Court of Federal Claims Number 01-0113V

28. Tracy A. Redditt on behalf of Autumn Ray Redditt, Falls Church, Virginia, Court of Federal Claims Number 01-0114V

29. Lori Cottrell on behalf of Kirklin Cottrell, Springfield, Missouri, Court of Federal Claims Number 01-0120V

30. Mary Freyer on behalf of Amanda Nicole Freyer, Newburgh, New York, Court of Federal Claims Number 01-0123V

31. Robert Rickett, Vienna, Virginia, Court of Federal Claims Number 01-0128V

32. Gloria Dean Quinn on behalf of Deontray L. Brown, Tylertown, Mississippi, Court of Federal Claims Number 01-0131V

33. Lynda and Robert DeMartino on behalf of Francesca DeMartino, Kennewick, Washington, Court of Federal Claims Number 01-0134V

34. Paula Honroth on behalf of Brittany Honroth, Puyallup, Washington, Court of Federal Claims Number 01-0135V

35. Kathleen and Ernest Cook on behalf of Ernest Alan Cook, Jr., Jackson, Mississippi, Court of Federal Claims Number 01-0142V

36. Sandra and Larry Harris on behalf of Jacob Harris, Farmville, Virginia, Court of Federal Claims Number 01-0146V

37. Sandra Price on behalf of Jerry David Price, Spartanburg, South Carolina, Court of Federal Claims Number 01-0147V

38. Carol Way, Antelope Valley, California, Court of Federal Claims Number 01-0158V

39. Katherine and Joseph Snyder on behalf of Colten Snyder, Ormond Beach, Florida, Court of Federal Claims Number 01-0162V

40. Pam Mack on behalf of Kylee Mack, Joplin, Missouri, Court of Federal Claims Number 01-0163V

41. Jennifer Kehoe on behalf of George Kehoe, Charleston, South Carolina, Court of Federal Claims Number 01-0164V

42. Lisa Ann and Richard Pafford on behalf of Richelle Lorrae Pafford, Cheyenne, Wyoming, Court of Federal Claims Number 01-0165V

43. Mary A. Schlereth, Cumberland, Maryland, Court of Federal Claims Number 01-0174V

44. Michelle and Dwight Huston on behalf of Christopher Sanders, Vienna, Virginia, Court of Federal Claims Number 01-0175V

45. Nancy Demidio, Boston, Massachusetts, Court of Federal Claims Number 01-0183V

Dated: May 24, 2001.
Elizabeth M. Duke,
Acting Administrator.

[FR Doc. 01-13656 Filed 5-30-01; 8:45 am]

BILLING CODE 4160-15-U